DEPARTMENT OF THE INTERIOR

Fish and Wildlife Service

Information Collection To Be Submitted to the Office of Management and Budget (OMB) for Renewal Approval Under the Paperwork Reduction Act (PRA)

AGENCY: Information Collection Renewal.

SUMMARY: The U.S. Fish and Wildlife Service (Service) plans to submit the collection of information requirement described below to the Office of Management and Budget (OMB) for renewal approval under the provisions of the Paperwork Reduction Act (PRA). You may obtain copies of the collection requirement and related forms and explanatory material by contacting the Service's Information Collection Clearance Officer at the phone number listed below. The Service is soliciting comment and suggestions on the requirement as described below.

DATES: Interested parties must submit comments on or before June 30, 2000.

ADDRESSES: Interested parties should send comments and suggestions on the requirement to Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Jack Hicks, (703) 358-1851, fax (703) 358-1837, or Jack_Hicks@fws.gov E-mail.

SUPPLEMENTARY INFORMATION: Title of Forms: Grant Agreement and Amendment to Grant Agreement.

OMB Approval Number: 1018-0049 expires 8/31/2000. The Service may not conduct or sponsor, and a person is not required to respond to a collection of information unless it displays a currently valid OMB Control Number.

Description and Use: The Service administers several grant programs authorized by the Federal Aid in Wildlife Restoration Act, the Federal Aid in Sport Fish Restoration Act, the Anadromous Fish Conservation Act, the Endangered Species Act, the Clean Vessel Act, the Sportfishing and Boating Safety Act, and the Coastal Wetlands Planning, Protection and Restoration Act. The Service uses the information collected to make awards within these grant programs. This includes determining if the estimated cost is reasonable, the cost sharing is consistent with the applicable program statues, and whether sufficient Federal funds are available for obligation. The State or other grantee uses the form to request funds and identify proposed cost sharing. Grantees initiate an Amendment to Grant Agreement to request a change to a previously approved Grant Agreement. The Service uses the Amendment to Grant Agreement to revise a previous funding obligation or otherwise document the approval of a revision.

These forms were previously approved under the referenced OMB control number. The new forms are modified slightly to lessen the burden on the public, and these changes also make them easier for the Service to use.

Service Form Numbers: 3-1552 (Grant Agreement) and 3-1591 (Amendment to Grant Agreement).

Supplemental Information: The service plans to submit the following information collection requirements to OMB for review and extension approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Frequency: Generally annually.

Description of Respondents: State, territorial (the Commonwealth of Puerto Rico, the District of Columbia, the Commonwealth of the Northern Mariana Islands, Guam, the Virgin Islands, and American Samoa), local governments, and others receiving grant funds.

Completion Time and Annual Response and Burden Estimate
Form name | Completion time per form (hours) | Annual response (forms) | Annual burden hours
Grant Agreement | 1 | 3500 | 3500
Amendment to Grant Agreement | 1 | 1750 | 1750
Totals |  | 5250 | 5250

BILLING CODE 4310-55-M

Dated: April 25, 2000.
Information Collection for OMB.
Jamie Rappaport Clark,
Director—U.S. Fish and Wildlife Service.

[FR Doc. 00-10829 Filed 4-28-00; 8:45 a.m.]

BILLING CODE 4310-55-C